DEPARTMENT OF JUSTICE

Justice Management Division; Agency Information Collection Activities Proposed Collection: Comments Requested

ACTION: Notice of Information Collection Under Review: Extension of Previously Approved Collection, Department of Justice Procurement Blanket Clearance.

The proposed information collection is published to obtain comments from the public and affected agencies. Comments are encouraged and will be accepted until December 4, 2000. Request written comments and suggestions from the public and affected agencies concerning the proposed collection of information. Your comments should address one or more of the following four points;

(1) Evaluate whether the proposed collection of information is necessary for the proper performance of the functions of the agency, including whether the information will have practical utility;

(2) Evaluate the accuracy of the agencies estimate of the burden of the proposed collection of information, including the validity of the methodology and assumptions used;

(3) Enhance the quality, utility and clarity of the information to be collected; and

(4) Minimize the burden of the collection of information on those who are to respond, including through the use of appropriate automated, electronic, mechanical or other technological collection techniques or other forms of information technology, e.g., permitting electronic submission of responses.

Comments and/or suggestions regarding the item(s) contained in this notice, especially regarding the estimated public burden and associated response time should be directed to Mr. Larry Silvis. If you have additional comments, suggestions, or need a copy of the proposed information collection instrument with instructions, or additional information, please contact Mr. Larry Silvis, (202) 616-3754, U.S. Department of Justice, Justice Management Division, Management and Planning Staff, Suite 1400, National Place Building, 1331 Pennsylvania Avenue, NW, Washington, D.C. 20530.

Overview of this Information Collection

(1) Type of information collection: Extension of Current Collection.

(2) The title of the form/collection: Department of Justice Procurement blanket Clearance.

(3) The agency form number, if any, and applicable component of the Department sponsoring the collection: Procurement Solicitation Documents, Justice Management Division, Department of Justice.

(4) Affected public who will be asked or required to respond, as well as a brief abstract: Primary: Commercial organizations and individuals who voluntarily submit offers and bids to compete for contract awards to provide supplies and services required by the Government. All work statements and pricing data are required to evaluate the contractors bid or proposal.

(5) An estimate of the total number of respondents and the amount of time for an average respondent to respond: 7,462 respondents, 20 hours average response time..

(6) An estimate of the total public burden (in hours) associated with this collection: 149,240 hours annually..

If additional information is required contact: Mr. Robert B. Briggs, Department Clearance Officer, United States Department of Justice, Information Management and Security Staff, Justice Management Division, Suite 1220, National Place Building, 1331 Pennsylvania Avenue, NW, Washington, DC 20530.

Dated: September 27, 2000.
Robert B. Briggs,
Department Clearance Officer, Department of Justice.

[FR Doc. 00-25343 Filed 10-2-00; 8:45 am]

BILLING CODE 4410-26-M